DEPARTMENT OF HOMELAND SECURITY

Federal Emergency Management Agency

[Docket ID FEMA-2014-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 7, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

I. Non-Watershed Based Studies

Community | Community map repository address
Kent County, Delaware, and Incorporated Areas
Docket No.: FEMA-B-1301
City of Dover | City Hall, Planning Department and Inspection, 15 Loockerman Plaza, Dover, DE 19901.
City of Harrington | City Hall, 106 Dorman, Harrington, DE 19952.
Town of Bowers | Bowers Town Hall, 3308 Main Street, Frederica, DE 19946.
Town of Camden | Town Hall, 1783 Friends Way, Camden, DE 19934.
Town of Felton | Town Hall, 24 East Sewell Street, Felton, DE 19943.
Town of Frederica | Town Hall, 2 East David Street, Frederica, DE 19946.
Town of Leipsic | Town Hall, 207 Main Street, Leipsic, DE 19901.
Town of Little Creek | Fire Hall, 311 Main Street, Little Creek, DE 19961.
Town of Smyrna | Town Hall, 27 South Market Street, Smyrna, DE 19977.
Town of Wyoming | Municipal Building, 1 North Railroad Avenue, Wyoming, DE 19934.
Unincorporated Areas of Kent County | Kent County Administrative Complex, Department of Planning Services, 555 Bay Road, Dover, DE 19901.
Charlton County, Georgia, and Incorporated Areas
Docket No.: FEMA-B-1300
City of Folkston | City Hall, 103 North First Street, Folkston, GA 31537.
Town of Homeland | Town Hall, 607 Pennsylvania Avenue, Homeland, GA 31537.
Unincorporated Areas of Charlton County | Charlton County Courthouse, 68 Kingsland Drive, Folkston, GA 31537.
Chatham County, Georgia, and Incorporated Areas
Docket No.: FEMA-B-1310
City of Bloomingdale | City Hall, 8 West U.S. Route 80, Bloomingdale, GA 31302.
City of Pooler | City Hall, 100 Southwest Highway 80, Pooler, GA 31322.
City of Port Wentworth | City Hall, 305 South Coastal Highway, 31407, GA 31407.
City of Savannah | City Hall, 2 East Bay Street, Savannah, GA 31402.
Unincorporated Areas of Chatham County | Chatham County Courthouse, 124 Bull Street, Suite 200, Savannah, GA 31401.
Bonner County, Idaho, and Incorporated Areas
Docket No.: FEMA-B-1310
Unincorporated Areas of Bonner County | Bonner County Planning Department, 1500 Highway 2, Suite 208, Sandpoint, ID 83864.
Blackford County, Indiana, and Incorporated Areas
Docket No.: FEMA-B-1281
City of Hartford City | Blackford County Area Planning and Zoning Office, Blackford County Courthouse, 110 West Washington Street, Hartford City, IN 47348.
City of Montpelier | Blackford County Area Planning and Zoning Office, Blackford County Courthouse, 110 West Washington Street, Hartford City, IN 47348.
Unincorporated Areas of Blackford County | Blackford County Area Planning and Zoning Office, Blackford County Courthouse, 110 West Washington Street, Hartford City, IN 47348.
McLeod County, Minnesota, and Incorporated Areas
Docket No.: FEMA-B-1310
City of Biscay | McLeod County Sheriff's Office, 801 10th Street East, Glencoe, MN 55336.
City of Brownton | McLeod County Sheriff's Office, 801 10th Street East, Glencoe, MN 55336.
City of Glencoe | Administration Building, 1107 11th Street East, Glencoe, MN 55336.
City of Hutchinson | City Hall, 111 Hassan Street Southeast, Hutchinson, MN 55350.
City of Lester Prairie | City Hall, 37 Juniper Street North, Lester Prairie, MN 55354.
City of Plato | City Office, 112 2nd Avenue Northeast, Plato, MN 55370.
City of Silver Lake | City Hall, 308 Main Street West, Silver Lake, MN 55381.
City of Winsted | McLeod County Sheriff's Office, 801 10th Street East, Glencoe, MN 55336.
Unincorporated Areas of McLeod County | McLeod County Courthouse, 830 11th Street East, Glencoe, MN 55336.
Howard County, Nebraska, and Incorporated Areas
Docket No.: FEMA-B-1315
Village of Dannebrog | Village Hall, 102 South Mill Street, Dannebrog, NE 68831.
City of St. Paul | City Hall, 704 Sixth Street, St. Paul, NE 68873.
Unincorporated Areas of Howard County | Howard County Courthouse, 612 Indian Street, St. Paul, NE 68873.
Hoke County, North Carolina, and Incorporated Areas
Docket No.: FEMA-B-1287
Unincorporated Areas of Hoke County | Hoke County Pratt Building, 227 North Main Street, Raeford, NC 28376.
Nash County, North Carolina, and Incorporated Areas
Docket No.: FEMA-B-1296
Town of Middlesex | Town Hall, 10232 South Nash Street, Middlesex, NC 27557.
Unincorporated Areas of Nash County | Nash County Planning Department, 120 West Washington Street, Suite 2110, Nashville, NC 27856.
Robeson County, North Carolina, and Incorporated Areas
Docket No.: FEMA-B-1287
Unincorporated Areas of Robeson County | Robeson County Building Safety and Code Enforcement Office, 435 Country Club Drive, Lumberton, NC 28360.
Scotland County, North Carolina, and Incorporated Areas
Docket No.: FEMA-B-1287
City of Laurinburg | City Hall, 305 West Church Street, Laurinburg, NC 28353.
Town of East Laurinburg | East Laurinburg Town Municipal Building, 12 3rd Street, Laurinburg, NC 28353.
Town of Wagram | Town Office, 24421 Marlboro Street, Wagram, NC 28396.
Unincorporated Areas of Scotland County | Scotland County Government Administration Building, 507 West Covington Street, Laurinburg, NC 28352.
Bristol County, Rhode Island (All Jurisdictions)
Docket No.: FEMA-B-1315
Town of Barrington | Town Hall, 283 County Road, Barrington, Rhode Island 02806.
Town of Bristol | Town Hall, 10 Court Street, Bristol, Rhode Island 02809.
Town of Warren | Warren Town Hall, 513 Main Street, Warren, Rhode Island 02885.

II. Watershed-Based Studies

Community | Community map repository address
Concord River Watershed
Middlesex County, Massachusetts (All Jurisdictions)
Docket No.: FEMA-B-1303
City of Lowell | City Hall, 375 Merrimack Street, Lowell, MA 01852.
City of Marlborough | City Hall, 140 Main Street, Marlborough, MA 01752.
Town of Acton | Town Hall, 472 Main Street, Acton, MA 01720.
Town of Ashland | Town Hall, 101 Main Street, Ashland, MA 01721.
Town of Bedford | Town Hall, 10 Mudge Way, Bedford, MA 01730.
Town of Billerica | Town Hall, 365, Boston Road, Billerica, MA 01821.
Town of Boxborough | Town Hall, 29 Middle Road, Boxborough, MA 01719.
Town of Carlisle | Town Hall, 66 Westford Drive, Carlisle, MA 01741.
Town of Chelmsford | Town Hall, 50 Billerica Road, Chelmsford, MA 01824.
Town of Concord | Planning and Development Building, 141 Keyes Road, Concord, MA 01742.
Town of Framingham | Town Hall, 150 Concord Street, Framingham, MA 01702.
Town of Holliston | Town Hall, 703 Washington Street, Holliston, MA 01746.
Town of Hopkinton | Town Hall, 18 Main Street, Hopkinton, MA 01748.
Town of Hudson | Town Hall, 78 Main Street, Hudson, MA 01749.
Town of Lincoln | Town Office, 16 Lincoln Road, Second Floor, Lincoln, MA 01773.
Town of Littleton | Town Office Building, 37 Shattuck Street, Littleton, MA 01460.
Town of Maynard | Town Hall, 195 Main Street, Maynard, MA 01754.
Town of Natick | Town Hall, 13 East Central Street, Natick, MA 01760.
Town of Sherborn | Town Hall, 19 Washington Street, Sherborn, MA 01770.
Town of Stow | Town Hall, 380 Great Road, Stow, MA 01775.
Town of Sudbury | Flynn Building, 278 Old Sudbury Road, Sudbury, MA 01776.
Town of Tewksbury | Town Hall, 1009 Main Street, Tewksbury, MA 01876.
Town of Wayland | Town Hall, 41 Cochituate Road, Wayland, MA 01778.
Town of Westford | Town Hall, 55 Main Street, Westford, MA 01886.

(Catalog of Federal Domestic Assistance No. 97.022, “Flood Insurance.”)

Dated: April 22, 2014.
Roy E. Wright,
Deputy Associate Administrator for Mitigation, Department of Homeland Security, Federal Emergency Management Agency.

[FR Doc. 2014-11139 Filed 5-14-14; 8:45 am]

BILLING CODE 9110-12-P